SOCIAL SECURITY ADMINISTRATION

[Docket No: SSA-2019-0012]

Agency Information Collection Activities: Comment Request

The Social Security Administration (SSA) publishes a list of information collection packages requiring clearance by the Office of Management and Budget (OMB) in compliance with Public Law 104-13, the Paperwork Reduction Act of 1995, effective October 1, 1995. This notice includes revisions of OMB-approved information collections, and one new information collection.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: IRA_Submission@omb.eop.gov.

(SSA), Social Security Administration, OLCA, Attn: Reports Clearance Director, 3100 West High Rise, 6401 Security Blvd., Baltimore, MD 21235, Fax: 410-966-2830, Email address: OR.Reports.Clearance@ssa.gov.

Or you may submit your comments online through www.regulations.gov, referencing Docket ID Number [SSA-2019-0012].

SSA submitted the information collections below to OMB for clearance. Your comments regarding these information collections would be most useful if OMB and SSA receive them 30 days from the date of this publication. To be sure we consider your comments, we must receive them no later than April 26, 2019. Individuals can obtain copies of the OMB clearance packages by writing to OR.Reports.Clearance@ssa.gov.

1. Tribal Council Coverage Agreement—0960-NEW. Section 218A of the Social Security Act grants voluntary Social Security coverage to Indian tribal council members. The coverage is voluntary for tribal council members; however, if the tribe wishes to obtain Social Security coverage, they must complete the agreement. Each tribe requesting coverage fills out one agreement. SSA employees collect this information via the paper form. The respondents are Indian tribal councils who wish to receive Social Security coverage for their members.

Type of Request: Request for a new information collection.

Modality of completion | Number of respondents | Frequency of response | Average burden per response (minutes) | Estimated total annual burden (hours)
Tribal Council Coverage Agreement Form | 100 | 1 | 10 | 17

2. Request to be Selected as a Payee—20 CFR 404.2010-404.2055, 416.601-416.665—0960-0014. SSA requires an individual applying to be a representative payee for a Social Security beneficiary or Supplemental Security Income (SSI) recipient to complete Form SSA-11-BK, or supply the same information to a field office technician through a personal interview. SSA obtains information from applicant payees regarding their relationship to the beneficiary; personal qualifications; concern for the beneficiary's well-being; and intended use of benefits if appointed as payee. The respondents are individuals; private sector businesses and institutions; and State and local government institutions and agencies applying to become representative payees.

Type of Request: Revision of an OMB approved information collection.

Modality of completion | Number of respondents | Frequency of response | Average burden per response (minutes) | Estimated total annual burden (hours)
Individuals/Households (90%):
Representative Payee System (RPS) | 1,710,000 | 1 | 12 | 342,000
Paper Version | 68,400 | 1 | 12 | 13,680
Total | 1,778,400 |  |  | 355,680
Private Sector (9%):
Representative Payee System (RPS) | 171,000 | 1 | 12 | 34,200
Paper Version | 6,840 | 1 | 12 | 1,368
Total | 177,840 |  |  | 35,568
State/Local/Tribal Government (1%):
Representative Payee System (RPS) | 19,000 | 1 | 12 | 3,800
Paper Version | 340 | 1 | 12 | 68
Total | 19,340 |  |  | 3,868
Grand Total | 1,975,580 |  |  | 395,116

3. Statement for Determining Continuing Eligibility for Supplemental Security Income Payment—20 CFR 416.204—0960-0145. SSA uses Form SSA-8202-BK to conduct low and middle-error profile (LEP/MEP) telephone, or face-to-face redetermination interviews with SSI recipients and representative payees, if applicable. SSA conducts LEP redeterminations interviews on a 6-year cycle, and MEP redeterminations annually. SSA requires the information we collect during the interview to determine whether: (1) SSI recipients met, and continue to meet, all statutory and regulatory requirements for SSI eligibility; and (2) the SSI recipients received, and are still receiving, the correct payment amounts. This information includes non-medical eligibility factors such as income, resources, and living arrangements. To complete Form SSA-8202, the respondents may need to obtain information from employers or financial institutions. The respondents are SSI recipients and their representatives, if applicable.

Type of Request: Revision of an OMB approved information collection.

Modality of completion | Number of respondents | Frequency of response | Average burden per response (minutes) | Estimated total annual burden (hours)
SSA-8202-BK | 9,954 | 1 | 21 | 3,484
SSI Claims System | 2,021,883 | 1 | 20 | 673,944
Totals | 2,031,787 |  |  | 677,428

4. Internet Direct Deposit Application—31 CFR 210—0960-0634. SSA requires all applicants and recipients of Social Security Old Age, Survivors, and Disability Insurance (OASDI) benefits, or SSI payments, to receive these benefits and payments via direct deposit at a financial institution. SSA receives Direct Deposit/Electronic Funds Transfer (DD/EFT) enrollment information from OASDI beneficiaries and SSI recipients to facilitate DD/EFT of their funds with their chosen financial institution. We also use this information when an enrolled individual wishes to change their DD/EFT information. For the convenience of the respondents, we collect this information through several modalities, including an internet application; in-office or telephone interviews; and our automated telephone system. In addition to using the direct deposit information to enable DD/EFT of funds to the recipient's chosen financial institution, we also use the information through our Direct Deposit Fraud Indicator to ensure the correct recipient receives the funds. Respondents are OASDI beneficiaries and SSI recipients requesting that we enroll them in the Direct Deposit program, or change their direct deposit banking information.

Type of Request: Revision of an OMB-approved information collection.

Modality of completion | Number of respondents | Frequency of response | Average burden per response (minutes) | Estimated total annual burden (hours)
Internet DD | 432,482 | 1 | 10 | 72,080
Non-Electronic Services (FO, 800#- ePath, SSI Claims System, SPS, MACADE, POS, RPS) | 3,227,426 | 1 | 12 | 645,485
Direct Deposit Fraud Indicator | 33,238 | 1 | 2 | 1,108
Totals | 3,693,146 |  |  | 718,673

Dated: March 22, 2019.
Faye Lipsky,
Reports Clearance Director, Social Security Administration.

[FR Doc. 2019-05834 Filed 3-26-19; 8:45 am]

BILLING CODE 4191-02-P